DEPARTMENT OF ENERGY

Federal Energy Regulatory Commission

Notice of Settlement Agreement and Soliciting Comments

August 17, 2005.

Take notice that the following settlement agreement has been filed with the Commission and is available for public inspection.

a. Type of Application: Settlement Agreement.

b. Project No.: 459-128.

c. Date Filed: August 12, 2005.

d. Applicant: Union Electric Company, d/b/a AmerenUE.

e. Name of Project: Osage Hydroelectric Project.

f. Location: Located on the Osage River, in Benton, Camden, Miller and Morgan counties, central Missouri. The project occupies 1.6 acres of federal land.

g. Filed Pursuant to: Rule 602 of the Commission's Rules of Practice and Procedure, 18 CFR 385.602.

h. Applicant Contact: Mr. Jerry Hogg, Superintendent Hydro Regulatory Compliance, AmerenUE, 617 River Road, Eldon, MO 65026; Telephone (573) 365-9315; e-mail—jhogg@ameren.com.

i. FERC Contact: Allan Creamer at (202) 502-8365, or by e-mail at allan.creamer@ferc.gov.

j. Deadline for Filing Comments: The deadline for filing comments on the Settlement Agreement is 20 days from the date of this notice. The deadline for filing reply comments is 30 days from the date of this notice. All documents (original and eight copies) should be filed with: Magalie R. Salas, Secretary, Federal Energy Regulatory Commission, 888 First Street, NE, Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. See 18 CFR 385.2001(a)(1)(iii) and the instructions of the Commission's Web site (http://www.ferc.gov) under the “e-filing” link.

k. AmerenUE filed the Comprehensive Settlement Agreement on behalf of itself and four other entities. The purpose of the Settlement Agreement is to resolve, among the signatories, all issues related to AmerenUE's pending Application for New License for the Osage Hydroelectric Project. The issues resolved through the settlement relate to project operations (e.g., turbine upgrades and capacity expansion, generation flows, etc.), erosion and flood control, minimum instream flows, lake level management, water quality, environmental restoration and enhancement measures (e.g., mussel habitat restoration, fish protection, and shoreline management), cultural resource management, and recreational enhancements. AmerenUE and the other signatories request that the Commission approve the Settlement Agreement and incorporate the terms of Appendix A of the Settlement, without material modification, into a new 40-year license for the project.

l. A copy of the Settlement Agreement is available for review at the Commission in the Public Reference Room or may be viewed on the Commission's Web site at http://www.ferc.gov, using the “e-Library” link. Enter the docket number, excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects. For assistance, contact FERC Online Support.

Magalie R. Salas,
Secretary.

[FR Doc. E5-4603 Filed 8-22-05; 8:45 am]

BILLING CODE 6717-01-P